DEPARTMENT OF AGRICULTURE

Animal and Plant Health Inspection Service

9 CFR Part 94

[Docket No. 01-018-1]

Change in Disease Status of Great Britain and Northern Ireland Because of Foot-and-Mouth Disease

Correction

In rule document 01-6403 beginning on page 14825 in the issue of Wednesday, March 14, 2001, make the following corrections:

1. On page 14825, in the first column, under the heading SUMMARY, in the 14th line, “into ” should read “and ”.

2. On the same page, in the second column, under the heading Background, in the second paragraph, in the 9th line “February 12, 2001” should read “ February 21, 2001 ”.

3. On the same page, in the third column, in the second paragraph, in the 21st line “and ” should read “or ”.

4. On page 14826, in the first column, in the first paragraph, in the second line, “the MAFF ” should read “that MAFF ”.

[FR Doc. C1-6403 Filed 4-5-01; 8:45 am]

BILLING CODE 1505-01-D

DEPARTMENT OF THE INTERIOR

Bureau of Land Management

[OR-120-01-7122PB-9021:01-0129]

Proposed Natural Gas Pipeline; Douglas County, OR

Correction

In notice document 01-7808 beginning on page 17194 in the issue of Thursday, March 29, 2001, make the following corrections:

1. On page 17194, in the third column, in the first full paragraph, in the 6th line, “100 psig” should read “1000 psig”.

2. On page 17194, in the third column, in the first full paragraph, in the 8th line, “15%” should read “150%”.

[FR Doc. C1-7808 Filed 4-5-01; 8:45 am]

BILLING CODE 1505-01-D

DEPARTMENT OF THE TREASURY

Internal Revenue Service

26 CFR Part 1

[TD 8929]

RIN 1545-AQ30

Accounting for Long-Term Contracts

Correction

In rule document 01-6 beginning on page 2219 in the issue of Thursday, January 11, 2001 make the following correction:

§1.460-1 [Corrected]

On page 2228, in the third column, in §1.460-1(j), in Example 2, in the 29th line down, after “10,000,000” add “÷”.

[FR Doc. C1-6 Filed 4-5-01; 8:45 am]

BILLING CODE 1505-01-D